DEPARTMENT OF COMMERCE

International Trade Administration

[A-489-833]

Large Diameter Welded Pipe From the Republic of Turkey: Preliminary Results of Antidumping Duty Administrative Review and Preliminary Determination of No Shipments; 2021-2022

AGENCY: Enforcement and Compliance, International Trade Administration, Department of Commerce.

SUMMARY: The U.S. Department of Commerce (Commerce) preliminarily determines that large diameter welded pipe (welded pipe) from the Republic of Turkey (Turkey) is not being sold in the United States at less than normal value (NV) during the period of review (POR) May 1, 2021, through April 30, 2022. Additionally, Commerce preliminarily determines that four companies for which we initiated a review had no shipments during the POR. Interested parties are invited to comment on these preliminary results.

DATES: Applicable June 6, 2023.

FOR FURTHER INFORMATION CONTACT: Ajay Menon, AD/CVD Operations, Office IX, Enforcement and Compliance, International Trade Administration, U.S. Department of Commerce, 1401 Constitution Avenue NW, Washington, DC 20230; telephone: (202) 482-0208.

SUPPLEMENTARY INFORMATION:

Background

Commerce is conducting an administrative review of the antidumping order on welded pipe from Turkey.¹ On May 1, 2022, Commerce published in the Federal Register a notice of opportunity to request an administrative review of the Order.² On July 14, 2022, based on a timely request for review, in accordance with 19 CFR 351.221(c)(1)(i), Commerce initiated an administrative review of the Order.³ This review covers 14 producers or exporters of the subject merchandise. Commerce selected HDM Celik Boru Sanayi Ve Ticaret A.S. (HDM Celik),⁴ the only company with suspended entries of subject merchandise during the POR, as the mandatory respondent in this review.⁵ For a complete description of the events that followed the initiation of this review, see the Preliminary Decision Memorandum.⁶

¹ See Large Diameter Welded Pipe from the Republic of Turkey: Amended Final Affirmative Antidumping Duty Determination and Antidumping Duty Order, 84 FR 18799 (May 2, 2019) (Order).

² See Antidumping or Countervailing Duty Order, Finding, or Suspended Investigation; Opportunity To Request Administrative Review and Join Annual Inquiry Service List, 87 FR 25619 (May 2, 2022).

³ See Initiation of Antidumping and Countervailing Duty Administrative Reviews, 87 FR 42144 (July 14, 2022).

⁴ In the less-than-fair-value (LTFV) investigation, Commerce found that, in 2017, after HDM Celik acquired HDM Spiral Kaynakli Celik Boru A.S. (HDM Spiral), HDM Spiral ceased to exist. See Large Diameter Welded Pipe from the Republic of Turkey: Preliminary Determination of Sales at Less Than Fair Value and Postponement of Final Determination, 83 FR 43646, 43647 (August 27, 2018), unchanged in Large Diameter Welded Pipe from the Republic of Turkey: Final Determination of Sales at Less Than Fair Value, 84 FR 6362 (February 27, 2019).

⁵ See Memorandum, “Respondent Selection,” dated August 2, 2022.

⁶ See Memorandum, “Decision Memorandum for the Preliminary Results of the 2021-2022 Administrative Review of the Antidumping Duty Order on Large Diameter Welded Pipe from the Republic of Turkey,” dated concurrently with, and hereby adopted by, this notice (Preliminary Decision Memorandum).

Scope of the Order

The merchandise covered by this Order is welded pipe.⁷ The product is currently classifiable in the Harmonized Tariff Schedule of the United States (HTSUS) under subheadings 7305.11.1030, 7305.11.1060, 7305.11.5000, 7305.12.1030, 7305.12.1060, 7305.12.5000, 7305.19.1030, 7305.19.1060, 7305.19.5000, 7305.31.4000, 7305.31.6090, 7305.39.1000 and 7305.39.5000. While the HTSUS subheadings are provided for convenience and customs purposes, the written description of the scope of this Order is dispositive.

⁷ For a complete description of the scope of the Order, see the Preliminary Decision Memorandum.

Methodology

Commerce is conducting this review in accordance with sections 751(a)(1)(B) and (2) of the Tariff Act of 1930, as amended (the Act). Export price is calculated in accordance with section 772 of the Act. NV is calculated in accordance with section 773 of the Act.

For a full description of the methodology underlying our conclusions, see the Preliminary Decision Memorandum. A list of the topics discussed in the Preliminary Decision Memorandum is attached as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Preliminary Determination of No Shipments

Among the companies under review, Çimtaş Boru Imalatiral Ticaret Ltd (Cimtas); Noksel Celik Boru Sanayi A.S. (Noksel); and Toscelik Profil ve Sac End. A.S. (AKA Toscelik Profile and Sheet Ind. Co.) (Toscelik Profil) and Toscelik Spiral Boru Uretim A.S. (Toscelik Spiral) properly filed statements that they made no shipments of subject merchandise to the United States during the POR.⁸ Based on their certifications and our analysis of U.S. Customs and Border Protection (CBP) information, we preliminarily determine that Cimtas, Noksel, Toscelik Profil, and Toscelik Spiral had no shipments during the POR.⁹ Consistent with our practice, we are not preliminarily rescinding the review with respect to the companies. Instead, we will complete the review and issue appropriate instructions to CBP based on the final results of this review.¹⁰

⁸ See Toscelik Profil's and Toscelik Spiral's Letter, “No Shipments Letter,” dated June 12, 2022; Noksel's Letter, “No Shipments Letter,” dated July 27, 2022; and Cimtas' Letter, “No Shipments Letter,” dated August 12, 2022.

⁹ See Memorandum, “No Shipment Inquiry for Multiple Companies During the period 05/01/2021 through 04/30/2022,” dated January 9, 2023.

¹⁰ See, e.g., Welded Line Pipe from the Republic of Korea: Preliminary Results of Antidumping Duty Administrative Review and Preliminary Determination of No Shipments; 2019-2020, 87 FR 928 (January 7, 2022), unchanged in Welded Line Pipe from the Republic of Korea: Final Results of Antidumping Duty Administrative Review; 2019-2020, 87 FR 38061 (June 27, 2022).

Preliminary Results of Review

As a result of this review, we preliminarily determine that the following weighted-average dumping margins exist for the period May 1, 2021, through April 30, 2022:

Exporter or producer | Weighted- average dumping margin (percent)
HDM Celik Boru Sanayi Ve Ticaret A.S | 0.00
Companies Not Selected for Individual Examination | 0.00

Rate for Companies Not Selected for Individual Examination

The Act and Commerce's regulations do not address the establishment of a weighted-average dumping margin to be applied to companies not selected for individual examination when Commerce limits its examination in an administrative review pursuant to section 777A(c)(2) of the Act. Generally, Commerce looks to section 735(c)(5) of the Act, which provides instructions for calculating the all-others rate in an LTFV investigation, for guidance when calculating the weighted-average dumping margin for companies which were not selected for individual examination in an administrative review. Under section 735(c)(5)(A) of the Act, the all-others rate is normally equal to the weighted average of the estimated weighted-average dumping margins established for exporters and producers individually examined, excluding rates that are zero, de minimis (i.e., less than 0.5 percent), or determined entirely on the basis of facts available.

Where the dumping margin for individually examined respondents are all zero, de minimis, or based entirely on facts available, section 735(c)(5)(B) of the Act provides that Commerce may use “any reasonable method to establish the estimated all-others rate for exporters and producers not individually investigated, including averaging the estimated weighted average dumping margins determined for the exporters and producers individually investigated.”

In this review, Commerce preliminarily determines that the weighted-average dumping margin for HDM Celik is zero percent. Therefore, in accordance with section 735(c)(5)(B) of the Act, we are preliminarily applying a rate of zero percent to the companies not selected for individual examination because we calculated a rate of zero percent for the mandatory respondent. The companies not selected for individual examination are listed in Appendix II.

Disclosure and Public Comment

Commerce intends to disclose the calculations performed in connection with these preliminary results to interested parties within five days after the date of publication of this notice.¹¹ Interested parties may submit case briefs to Commerce no later than 30 days after the date of publication of this notice.¹² Rebuttal briefs, limited to issues raised in the case briefs, may be filed no later than seven days after the time limit for filing case briefs.¹³ Parties who submit case briefs or rebuttal briefs in this review are encouraged to submit with each argument: (1) a statement of the issue; (2) a brief summary of the argument; and (3) a table of authorities.¹⁴

¹¹ See 19 CFR 351.224(b).

¹² See 19 CFR 351.309(c).

¹³ See 19 CFR 351.309(d).

¹⁴ See 19 CFR 351.309(c)(2) and (d)(2).

All submissions, including case and rebuttal briefs, as well as hearing requests, should be filed using ACCESS.¹⁵ An electronically-filed document must be received successfully in its entirety by ACCESS by 5 p.m. Eastern Time on the established deadline. Note that Commerce has temporarily modified certain of its requirements for serving documents containing business proprietary information, until further notice.¹⁶

¹⁵ See 19 CFR 351.303.

¹⁶ See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance, U.S. Department of Commerce, filed electronically via ACCESS within 30 days after the date of publication of this notice.¹⁷ Hearing requests should contain: (1) the party's name, address, and telephone number; (2) the number of participants; and (3) a list of issues to be discussed. Oral presentations at the hearing will be limited to issues raised in the briefs. If a request for a hearing is made, parties will be notified of the time and date for the hearing.¹⁸

¹⁷ See 19 CFR 351.310(c).

¹⁸ See 19 CFR 351.310(d).

Final Results of Review

Commerce intends to issue the final results of this administrative review, including the results of its analysis of issues raised in any written briefs, not later than 120 days after the date of publication of this notice in the Federal Register, unless otherwise extended.¹⁹

¹⁹ See section 751(a)(3)(A) of the Act.

Assessment Rates

Upon completion of the administrative review, Commerce shall determine, and CBP shall assess, antidumping duties on all appropriate entries covered by this review.²⁰ Pursuant to 19 CFR 351.212(b)(1), because HDM Celik reported the entered value for all of its U.S. sales, for HDM Celik we intend to calculate importer-specific ad valorem antidumping duty assessment rates based on the ratio of the total amount of dumping calculated for the examined sales for each importer to the total entered value of those sales. Where the respondent's weighted-average dumping margin is zero or de minimis within the meaning of 19 CFR 351.106(c), or an importer-specific assessment rate is zero or de minimis, we will instruct CBP to liquidate the appropriate entries without regard to antidumping duties.

²⁰ See 19 CFR 351.212(b)(1).

Commerce's “automatic assessment” will apply to entries of subject merchandise during the POR produced by HDM Celik for which it did not know that the merchandise it sold to the intermediary (e.g., a reseller, trading company, or exporter) was destined for the United States. In such instances, we will instruct CBP to liquidate unreviewed entries at the all-others rate if there is no rate for the intermediate company involved in the transaction.²¹

²¹ For a full discussion of this practice, see Antidumping and Countervailing Duty Proceedings: Assessment of Antidumping Duties, 68 FR 23954 (May 6, 2003).

For the companies which were not selected for individual examination, we intend to assign an antidumping duty assessment rate equal to the weighted-average dumping margin calculated in the final results of this review for HDM Celik. Further, if we continue to find in the final results that Çimtaş, Noksel, Toscelik Profil, and Toscelik Spiral had no shipments of subject merchandise during the POR, we will instruct CBP to liquidate any suspended entries that entered under their antidumping duty case numbers (i.e., at that exporter's rate) at the all-others rate if there is no rate for the intermediate company(ies) involved in the transaction.

In accordance with section 751(a)(2)(C) of the Act, the final results of this review shall be the basis for the assessment of antidumping duties on entries of subject merchandise during the POR, and for future cash deposits of estimated antidumping duties, where applicable. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the companies listed above will be equal to the weighted-average dumping margin established in the final results of this review, except if the rate is less than 0.50 percent and, therefore, de minimis within the meaning of 19 CFR 351.106(c)(1), in which case the cash deposit rate will be zero; (2) for previously reviewed or investigated companies not covered by this review, the cash deposit will continue to be the company-specific rate published for the most recently completed segment of this proceeding in which the company participated; (3) if the exporter is not a firm covered in this review, or the LTFV investigation, but the producer is, then the cash deposit rate will be the rate established for the most recently completed segment for the producer of the subject merchandise; and (4) the cash deposit rate for all other producers and exporters will continue to be 1.57 percent, the all-others rate established in the amended final determination of the LTFV investigation.²²

²² See Large Diameter Welded Pipe from the Republic of Turkey: Notice of Court Decision Not in Harmony With Amended Final Determination in the Less-Than-Fair-Value Investigation; Notice of Amended Final Determination Pursuant to Court Decision; and Notice of Revocation of Antidumping Duty Order, in Part, 85 FR 35262, 35263 (June 9, 2020) (Amended Final Determination).

These deposit requirements, when imposed, shall remain in effect until further notice.

Notification to Importers

This notice serves as a preliminary reminder to importers of their responsibility under 19 CFR 351.402(f) to file a certificate regarding the reimbursement of antidumping duties prior to liquidation of the relevant entries during this review period. Failure to comply with this requirement could result in the Commerce's presumption that reimbursement of antidumping duties occurred and the subsequent assessment of double antidumping duties.

Notification to Interested Parties

We are issuing and publishing these results in accordance with sections 751(a)(1) and 777(i)(1) of the Act.

Dated: May 30, 2023.
Lisa W. Wang,
Assistant Secretary for Enforcement and Compliance.

Appendix I

List of Topics Discussed in the Preliminary Decision Memorandum

I. Summary

II. Background

III. Scope of the Order

IV. Discussion of the Methodology

V. Currency Conversion

VI. Recommendation

Appendix II

List of Companies Not Selected for Individual Examination

1. Borusan Mannesmann Boru Sanayi ve Ticaret A.S.²³

²³ Subject merchandise produced and exported by Borusan Mannesmann Boru Sanayi ve Ticaret A.S. (Borusan) was excluded from the order effective June 1, 2020. See Amended Final Determination, 85 FR at 35264. Commerce also stated in this notice that it would not initiate a new review of Borusan's entries. Accordingly, Borusan is only covered by this administrative review for subject merchandise produced in Turkey where Borusan acted as either the producer or exporter, but not both.

2. Borusan Istikbal Ticaret

3. Cagil Makina San ve Tic A.S. AKA Cagil Makina A.S.

4. Spirally Welded Steel Pipe Inc.

5. Emek Boru Makina Sanayi ve Ticaret A.S.

6. Erciyas Celik Boru Sanayi A.S.

7. Mazlum Mangtay Boru Son. Ins. Tar. Urn. San. ve Tic. A.S.

8. Ozbal Celik Boru San. Tic. Ve TAAH A.S.

9. Umran Celik Boru Sanayii A.S.

[FR Doc. 2023-12026 Filed 6-5-23; 8:45 am]

BILLING CODE 3510-DS-P